DEPARTMENT OF HEALTH AND HUMAN SERVICES

Centers for Disease Control and Prevention

Advisory Committee on Breast Cancer in Young Women (ACBCYW)

In accordance with section 10(a)(2) of the Federal Advisory Committee Act (Pub. L. 92-463), the Centers for Disease Control and Prevention (CDC), announces the following meeting of the aforementioned committee:

Time and Date: 9:30 a.m.-3:30 p.m. EST, December 13, 2012.

Place: The meeting will be held via teleconference.

Teleconference login information is as follows:

For Public:

TOLL-FREE PHONE #: 800-857-4875.

Participant passcode: 9377.

Net Conference URL: https://www.mymeetings.com/nc/join/.

Conference number: PW6978681.

Audience passcode: 9377, or

Public can join the event directly:

https://www.mymeetings.com/nc/join.php?i=PW6978681&p=9377&t=c.

There is also a toll number for anyone outside of the USA:

TOLL # 1-212-287-1661.

Participant passcode: 9377.

Please go to the ACBCYW meeting Web page to register for this meeting:

http://www.cdc.gov/cancer/breast/what_cdc_is_doing/conference.htm.

Status: Open to the public, limited only by the number of phone lines available.

Purpose: The committee provides advice and guidance to the Secretary, HHS; the Assistant Secretary for Health; and the Director, CDC, regarding the formative research, development, implementation and evaluation of evidence-based activities designed to prevent breast cancer (particularly among those at heightened risk) and promote the early detection and support of young women who develop the disease. The advice provided by the Committee will assist in ensuring scientific quality, timeliness, utility, and dissemination of credible appropriate messages and resource materials.

Matters To Be Discussed: The agenda will include discussions on approaches to increase awareness of clinicians/practitioners regarding topics such as breast health, symptoms, diagnosis, and treatment of breast cancer in young women; and information needs and delivery mechanisms for women at higher risks for developing breast cancer.

Agenda items are subject to change as priorities dictate.

Contact Person for More Information: Temeika L. Fairley, Ph.D., Designated Federal Officer, National Center for Chronic Disease Prevention and Health Promotion, CDC, 5770 Buford Hwy, NE., Mailstop K52, Atlanta, Georgia 30341, Telephone (770) 488-4518, Fax (770) 488-4760, Email: acbcyw@cdc.gov.

The Director, Management Analysis and Services Office, has been delegated the authority to sign Federal Register notices pertaining to announcements of meetings and other committee management activities, for both the Centers for Disease Control and Prevention, and Agency for Toxic Substances and Disease Registry.

Dated: November 8, 2012.
Elaine L. Baker,
Director, Management Analysis and Services Office, Centers for Disease Control and Prevention.

[FR Doc. 2012-27901 Filed 11-15-12; 8:45 am]

BILLING CODE 4163-18-P